DEPARTMENT OF LABOR

Office of the Secretary

[Secretary's Order 1-2001]

Departmental Policy to Ensure that Agency Policies and Activities Fully Address the Needs and Concerns of People With Disabilities; Delegation of Authority and Assignment of Responsibility to the Assistant Secretary for Disability Employment Policy

1. Purpose

To delegate authority and assign responsibility to the Assistant Secretary for Disability Employment Policy and to affirm that all components of the Department of Labor (DOL) have the responsibility to work cooperatively to ensure that their missions fully address the needs and concerns of people with disabilities.

2. Authority

This Order is issued pursuant to Section 1(a)(1) of the Consolidated Appropriations Act, 2001 (Pub. L. 106-554) (enacting H.R. 5656, see Title I, “Departmental Management”); 29 U.S.C. §§ 551 et seq.; 5 U.S.C. 301; and Executive Order 13187, “The President's Disability Employment Partnership Board” (PDEPB) (January 10, 2001).

3. Background

The Office of Disability Employment Policy (ODEP) has responsibility, under its enabling legislation (Pub. L. 106-554), for providing leadership, developing policy and initiatives, and awarding grants furthering the objective of eliminating barriers to the training and employment of people with disabilities.

Under Executive Order 13187 (EO 13187), the PDEPB's general functions include providing advice and information to the Secretary of Labor about “facilitating the employment of people with disabilities,” and assisting “in other activities that promote the formation of public-private partnerships, the use of economic incentives, the provision of technical assistance regarding entrepreneurship, and other actions that may enhance employment opportunities for people with disabilities.” In implementing these general functions, the PDEPB is charged with providing reports to and coordinating with the ODEP. DOL, under EO 13187, is responsible for providing funding and appropriate support for the PDEPB; performing the functions of the President under the Federal Advisory Committee Act, as amended (except that of reporting to the Congress), that are applicable to the PDEPB; and, to the extent permitted by law, providing the PDEPB with such information as it may need for purposes of carrying out its functions.

4. Policy

It is the policy of the DOL that all of its activities and programs promote the welfare of all workers and that the needs of young people and adults with disabilities in the labor force are properly addressed in the development and implementation of DOL policy, programs, research, evaluation, and materials. Therefore, DOL activities and programs that relate to or that may affect the participation of people with disabilities in the Nation's work force or in the economic or social development of the Nation shall be coordinated with the ODEP.

5. Delegation of Authority and Assignment of Responsibility

a. The Assistant Secretary for Disability Employment Policy is delegated authority and assigned responsibility for:

(1) Advising and assisting the Secretary of Labor in the development of DOL policies and programs that promote the training and employment of people with disabilities;

(2) Ensuring coordination among DOL agencies on matters or programs related to or affecting people with disabilities;

(3) Keeping the Secretary fully informed concerning the results of DOL's efforts and the status of workers with disabilities by preparing timely reports on critical issues;

(4) In accordance with the policies and procedures established by the Assistant Secretary for Administration and Management (see Secretary's Order 4-76), awarding grants furthering the objective of eliminating barriers to the training and employment of people with disabilities; and

(5) Acting as liaison between DOL and the PDEPB, including the performance of the responsibilities assigned to DOL under EO 13187 which involve the President's functions under the Federal Advisory Committee Act.

b. The Assistant Secretary for Administration and Management is responsible for providing or assuring that appropriate administrative and management support is furnished, as required, for the efficient and effective operation of the ODEP and PDEPB.

c. The Solicitor of Labor is delegated authority and assigned responsibility for providing legal advice and counsel to the Department and agencies on all matters arising in the administration of this Order.

d. DOL Agency Heads are responsible for coordinating with the ODEP on policies and programs which affect or may affect people with disabilities. This coordination shall include (but is not limited to):

(1) Reviewing current practices which affect the training and employment of people with disabilities and their participation in the economic and social development of the Nation and developing appropriate policies and programs to improve/enhance the impact of their agency's activities on people with disabilities in the labor force;

(2) Consulting with the ODEP in the development of policy materials (for example, regulations, standards, and other material for publication in the Federal Register, proposed legislation), Congressional testimony, statistical surveys, publications, and similar items;

(3) Consulting with the ODEP during the development of agency strategic plans to assure that the needs of people with disabilities in the labor force are addressed and that efforts are coordinated with the ODEP;

(4) Providing the ODEP with up-to-date information concerning developments relating to policies, plans, projects, studies, evaluations, proposals, and programs and copies of agency publications;

(5) Utilizing the expertise of the ODEP in the development and implementation of task forces, meetings, conferences, seminars, training sessions, and similar activities;

(6) Briefing their staff on a regular basis (at least annually) on their agency's commitment to address the needs of people with disabilities in the labor force and the status of workers with disabilities; and

(7) Inviting ODEP participation in agency programmatic training and involving agency staff in ODEP training.

6. Reservation of Authority and Responsibility

(a) The submission of reports and recommendations to the President and the Congress concerning the administration of statutory or administrative provisions is reserved to the Secretary.

(b) This Secretary's Order does not affect the authorities or responsibilities of the Office of Inspector General under the Inspector General Act of 1978, as amended, or under Secretary's Order 2-90 (January 31, 1990).

(c) This Order does not affect the authorities and responsibilities assigned by any other secretary's order, such as the following: 4-76; 9-78; 2-82; 6-82; 7-83; 8-83; 3-96; 5-96; and 4-2000.

7. Effective Date

This Order is effective immediately.

Dated: January 18 2001.
Alexis M. Herman,
Secretary of Labor.

[FR Doc. 01-5739 Filed 3-7-01; 8:45 am]

BILLING CODE 4510-23-P